DEPARTMENT OF HEALTH AND HUMAN SERVICES

Administration for Community Living

[OMB No. 0985-New]

Agency Information Collection Activities; Proposed Collection; Comment Request; State Performance Report

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the new information collection requirements relating to the State Performance Report.

DATES: Comments on the collection of information must be submitted electronically by 11:59 p.m. (EST) or postmarked by April 26, 2021.

ADDRESSES: Submit electronic comments on the collection of information to: Susan.Jenkins@acl.hhs.gov. Submit written comments on the collection of information to Administration for Community Living, Washington, DC 20201, Attention: Susan Jenkins.

FOR FURTHER INFORMATION CONTACT: Susan Jenkins, Administration for Community Living, Washington, DC 20201, by email at Susan.Jenkins@acl.hhs.gov or by telephone at 202-795-7369.

SUPPLEMENTARY INFORMATION: Under the PRA (44 U.S.C. 3501-3520), Federal agencies must obtain approval from the Office of Management and Budget (OMB) for each collection of information they conduct or sponsor. “Collection of information” is defined under the PRA and includes agency requests or requirements that members of the public submit reports, keep records, or provide information to a third party. PRA section (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

The currently approved SPR under 0985-0008 will expire in FY 2022, which is the final reporting year for the currently approved OMB control number (0985-0008). In order to comply with requirements under the PRA it is necessary to place this “new SPR” IC under a new OMB control number while keeping the currently approved SPR under 0985-0008 active for remaining reporting in FY 2022.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The purpose of this data collection is to fulfill requirements of the Older Americans Act and the Government Performance and Results Modernization Act (GPRA Modernization Act) of 2010 and related program performance activities. Section 202(a)(16) of the OAA requires the collection of statistical data regarding the programs and activities carried out with funds provided under the OAA and Section 207(a) directs the Assistant Secretary on Aging to prepare and submit a report to the President and Congress based on those data.

Section 202(f) directs the Assistant Secretary to develop a set of performance outcome measures for planning, managing, and evaluating activities performed and services provided under the OAA. Requirements pertaining to the measurement and evaluation of the impact of all programs authorized by the OAA are described in section 206(a). The State Performance Report is one source of data used to develop and report performance outcome measures and measure program effectiveness in achieving the stated goals of the OAA.

The Administration on Aging (now within the Administration for Community Living) first developed a State Program Report (SPR) in 1996 as part of its National Aging Program Information System (NAPIS). The SPR collects information about the national Aging Network, how State Agencies on Aging expend their OAA funds as well as funding from other sources for OAA authorized supportive services. The SPR also collects information on the demographic and functional status of the recipients, and is a key source for ACL performance measurement. This previously approved “New SPR” was a revision of the currently active version (effective 2019-2022) and was approved on 2018, also assigned with the same OMB Control Number #0985-0001. This previously approved collection reduces the number of data elements reported by 70% compared to the 2019-2022 SPR.

ACL intends to seek a new OMB Control Number for the for the new SPR effective FY 2022-2025. This request applies only to making an administrative change to the 2018 approved version of the State Performance Report for State Units on Aging (Older Americans Act Titles III and VII (Chapters 3 and 4) (“new SPR”). ACL intends to use this proposed data to collect information with the FY 2022 reporting year.

To view and comment on this information collection please visit Administration for Community Living public input page: https://acl.gov/about-acl/public-input.

Estimated Program Burden: ACL estimates an annual burden of 1,876 hours:

Respondent/data collection activity | Number of respondents | Responses per respondent | Hours per response | Annual burden hours
SPR | 56 | 1 | 33.5 | 1,876
Total | 56 | 1 | 33.5 | 1,876

Dated: February 19, 2021.
Alison Barkoff,
Acting Administrator and Assistant Secretary for Aging.

[FR Doc. 2021-03862 Filed 2-24-21; 8:45 am]

BILLING CODE 4154-01-P